DEPARTMENT OF LABOR

Employment and Training Administration

[TA-W-41,672 and NAFTA-6243]

VMV Paducahbilt, VMV Enterprises, Paducah, KY; Dismissal of Application for Reconsideration

Pursuant to 29 CFR 90.18(C) an application for administrative reconsideration was filed with the Director of the Division of Trade Adjustment Assistance for workers at VMV Paducahbilt, VMV Enterprises, Paducah, Kentucky. The application contained no new substantial information which would bear importantly on the Department's determination. Therefore, dismissal of the application was issued.

TA-W-41,672 and NAFTA-06243; VMV Paducahbilt, VMV Enterprises, Paducah, Kentucky (October 16, 2002)

Signed at Washington, DC, this 5th day of November, 2002.
Edward A. Tomchick,
Director, Division of Trade Adjustment Assistance.

[FR Doc. 02-29697 Filed 11-21-02; 8:45 am]

BILLING CODE 4510-30-P